DEPARTMENT OF EDUCATION

[Docket ID ED-2019-IES-0073]

Privacy Act of 1974; System of Records

AGENCY: Institute of Education Sciences, Department of Education.

ACTION: Notice of a new system of records.

SUMMARY: In accordance with the Privacy Act of 1974, as amended (Privacy Act), the Department of Education (the Department) publishes this notice of a new system of records entitled “National Evaluation of the Striving Readers Comprehensive Literacy and Comprehensive Literacy State Development Programs” (18-13-45). This system contains individually identifying information of principals, teachers, and students voluntarily provided by grantees, subgrantees, and individuals that participate in the Striving Readers Comprehensive Literacy (SRCL) program and the Comprehensive Literacy State Development (CLSD) program. The SRCL program and the CLSD program both provide high-quality literacy instruction to improve the reading and writing skills of students from birth through grade 12. The information in this system will be used to conduct a national evaluation of the SRCL program's implementation and outcomes and the CLSD program's implementation and effectiveness.

DATES: Submit your comments on this new system of records notice on or before August 26, 2020.

This new system of records will become applicable upon publication in the Federal Register on July 27, 2020. All proposed routine uses in the section of the new system of records notice entitled “ROUTINE USES OF RECORDS MAINTAINED IN THE SYSTEM, INCLUDING CATEGORIES OF USERS AND PURPOSES OF SUCH USES” will become applicable on August 26, 2020, unless the new system of records notice needs to be changed as a result of public comment. The Department will publish any changes to the system of records or routine uses that result from public comment.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “Help” tab.

• Postal Mail, Commercial Delivery, or Hand Delivery: If you mail or deliver your comments about this modified system of records, address them to: Tracy Rimdzius, Institute of Education Sciences, U.S. Department of Education, Potomac Center Plaza, 550 12th Street SW, Room 4114-1, Washington, DC 20202.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Tracy Rimdzius, Institute of Education Sciences, U.S. Department of Education, Potomac Center Plaza, 550 12th Street SW, Room 4114-1, Washington, DC 20202. Telephone: (202) 245-6940. Email: Tracy.Rimdzius@ed.gov.

If you use a telecommunications device for the deaf (TDD) or a text telephone (TTY), you may call the Federal Relay Service at 1-800-877-8339.

SUPPLEMENTARY INFORMATION: The information contained in the system will be used to conduct a national evaluation of the SRCL program's implementation and outcomes and a national evaluation of the implementation and effectiveness of the CLSD program.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

For the reasons discussed in the preamble, the Director of the Institute of Education Sciences, U.S. Department of Education (Department), publishes a notice of a new system of records to read as follows:

SYSTEM NAME AND NUMBER:

National Evaluation of the Striving Readers Comprehensive Literacy and Comprehensive Literacy State Development Programs (18-13-45).

SECURITY CLASSIFICATION:

Unclassified.

SYSTEM LOCATION:

(1) Institute of Education Sciences, U.S. Department of Education, Potomac Center Plaza, 550 12th Street SW, Washington, DC 20202.

(2) American Institutes for Research, 1000 Thomas Jefferson Street NW, Washington, DC 20007(contractor).

(3) National Opinion Research Center at the University of Chicago, 55 East Monroe Street, 30th Floor, Chicago, IL 60603 (subcontractor).

SYSTEM MANAGER(S):

Comprehensive Literacy Program Evaluation contracting officer representative, Institute of Education Sciences, U.S. Department of Education, Potomac Center Plaza, 550 12th Street SW, Room 4114-1, Washington, DC 20202.

AUTHORITY FOR MAINTENANCE OF THE SYSTEM:

The study is authorized under sections 171(b) and 173 of the Education Sciences Reform Act of 2002 (ESRA)(20 U.S.C. 9561(b) and 9563), section 1502(b) of the Elementary and Secondary Education Act, as amended by the No Child Left Behind Act of 2001, and section 2225 of the Elementary and Secondary Education Act, as amended by the Every Student Succeeds Act (20 U.S.C. 6645).

PURPOSE(S) OF THE SYSTEM:

The information contained in the records maintained in this system is used to conduct a national evaluation of the Striving Readers Comprehensive Literacy (SRCL) program and the Comprehensive Literacy State Development (CLSD) program.

The study will address the following central research questions: How do State grantees implement their SRCL/CLSD program grants? How do subgrantees target SRCL/CLSD program awards to schools and early learning programs? What literacy interventions and practices are used by schools and early learning programs in the SRCL and CLSD programs? What are the literacy outcomes for students in SRCL schools and early learning programs? What is the impact of the CLSD program on classroom reading instruction? What is the impact of the CLSD program on student reading outcomes?

CATEGORIES OF INDIVIDUALS COVERED BY THE SYSTEM:

This system contains records on principals, teachers, and students in the schools and early learning programs that are participating in the evaluations of the SRCL and CLSD programs. The system contains records on approximately 600 school principals, 3,700 teachers, and 3.7 million students (in grades three to eight and one grade in high school) in 413 school districts in the 11 states with SRCL program grants. The system contains records on approximately 130 school principals, 180 teachers, and 1.9 million students (in grades three to eight and one grade in high school) in 200 school districts in the states with CLSD program grants.

CATEGORIES OF RECORDS IN THE SYSTEM:

For teachers, this system includes, but is not limited to, the following information: Full name, contact information, background characteristics, teaching experience and professional development, teaching certification, and descriptions of their reading instruction. For principals, this system includes, but is not limited to, the following information: Full name, contact information, and years of experience. For students, this system includes, but is not limited to, the following information: English learner status, gender, race/ethnicity, grade, eligibility for free/reduced-price lunch, individualized education plan status, and standardized English/Language Arts and Math test scores.

RECORD SOURCE CATEGORIES:

Information in this system is obtained from human resource and student education records maintained by the school districts; surveys of principals and of teachers that are administered by the study team; and, observations of reading instruction conducted by the study team.

ROUTINE USES OF RECORDS MAINTAINED IN THE SYSTEM, INCLUDING CATEGORIES OF USERS AND PURPOSES OF SUCH USES:

The Department may disclose information contained in a record in this system of records under the routine uses listed in this system of records without the consent of the individual if the disclosure is compatible with the purposes for which the record was collected. The Department may make these disclosures on a case-by-case basis or, if the Department has complied with the computer matching requirements of the Privacy Act of 1974, as amended (Privacy Act), under a computer matching agreement. Any disclosure of individually identifiable information from a record in this system must also comply with the requirements of section 183 of the ESRA (20 U.S.C. 9573), providing for confidentiality standards that apply to all collection, reporting, and publication of data by the Institute of Education Sciences. Any disclosure of personally identifiable information (PII) from student education records that is obtained from schools or school districts must also comply with the requirements of the Family Educational Rights and Privacy Act (FERPA) (20 U.S.C. 1232g; 34 CFR part 99), which protects the privacy of student education records and the PII contained therein.

(1) Contract Disclosure. The Department may disclose records to employees of an entity with which the Department contracts when disclosure is necessary for an employee of the entity to perform a function pursuant to the Department's contract with the entity. As part of such a contract, the Department shall require the contractor to agree to establish and maintain safeguards to protect the security and confidentiality of the disclosed records. Any contractor or subcontractor that either obtains PII contained in student education records on behalf of the Department or to which the Department discloses PII contained in education records pursuant to this routine use shall comply with all applicable FERPA restrictions that apply to such PII, including, but not limited to, on the use, redisclosure, and destruction of such PII.

(2) Research Disclosure. The Department may disclose information from this system of records to a researcher if an appropriate official of the Department determines that the individual or organization to which the disclosure would be made is qualified to carry out specific research that is compatible with the purpose(s) of this system of records. The official may disclose information from this system of records to that researcher solely for the purpose of carrying out such research related to the purpose(s) of this system of records. The researcher must agree to establish and maintain safeguards consistent with section 183(c) of the ESRA (20 U.S.C. 9573(c)) to protect the security and confidentiality of such records disclosed from this system. Researchers to whom the Department discloses PII from student education records pursuant to this routine use shall comply with all applicable FERPA restrictions that apply to such PII, including, but not limited to, on the use, redisclosure, and destruction of such PII.

POLICIES AND PRACTICES FOR STORAGE OF RECORDS:

Records in this system are maintained in a secure, password-protected electronic system.

POLICIES AND PRACTICES FOR RETRIEVAL OF RECORDS:

Records in this system will be indexed and retrieved by a unique number assigned to each individual that will be cross-referenced by the individual's name on a separate list.

POLICIES AND PRACTICES FOR RETENTION AND DISPOSAL OF RECORDS:

The Department shall submit a retention and disposition schedule that covers the records contained in this system to the National Archives and Records Administration (NARA) for review. The records will not be destroyed until such time as NARA approves said schedule.

ADMINISTRATIVE, TECHNICAL, AND PHYSICAL SAFEGUARDS:

Security protocols for this system of records meet all required security standards. The contractor and subcontractor will be required to ensure that information identifying individuals is in files physically separated from other research data and electronic files identifying individuals are separated from other electronic research data files. The contractor and subcontractor will maintain security of the complete set of all master data files and documentation. Access to individually identifiable data will be strictly controlled. All information will be kept in locked file cabinets during nonworking hours, and work on hardcopy data will take place in a single room, except for data entry.

Physical security of electronic data also will be maintained. Security features that protect project data will include: Password-protected accounts that authorize users to use the contractor's and subcontractor's systems but to access only specific network directories and network software; user rights and directory and file attributes that limit those who can use particular directories and files and determine how they can use them; and additional security features that the network administrators will establish for projects as needed. The contractor's and subcontractor's employees who “maintain” (collect, maintain, use, or disseminate) data in this system must comply with the requirements of the Privacy Act and the confidentiality standards in section 183 of the ESRA (20 U.S.C. 9573).

RECORD ACCESS PROCEDURES:

If you wish to request access to your records, you must contact the system manager at the address listed above under the section entitled “SYSTEM MANAGER(S).” Your request must provide necessary particulars of your full name, address, and telephone number, and any other identifying information requested by the Department while processing the request, to distinguish between individuals with the same name. Your request must meet the requirements of the Department's Privacy Act regulations set forth in 34 CFR 5b.5, including proof of identity.

CONTESTING RECORD PROCEDURES:

If you wish to contest the content of a record regarding you in the system of records, contact the system manager at the address listed above under the section entitled “SYSTEM MANAGER(S).” Your request must meet the requirements of the Department's Privacy Act regulations set forth in 34 CFR 5b.7.

NOTIFICATION PROCEDURES:

If you wish to inquire whether a record exists regarding you in this system, you must contact the system manager at the address listed above under the section entitled “SYSTEM MANAGER(S).” You must provide necessary particulars of your full name, address, and telephone number, and any other identifying information requested by the Department while processing the request, to distinguish between individuals with the same name. Your request must meet the requirements of the Department's Privacy Act regulations set forth in 34 CFR 5b.5, including proof of identity.

EXEMPTIONS PROMULGATED FOR THE SYSTEM:

None.

HISTORY:

None.

[FR Doc. 2020-16201 Filed 7-24-20; 8:45 am]

BILLING CODE 4000-01-P